DEPARTMENT OF ENERGY

Federal Energy Regulatory Commission

[Docket No. RM98-1-000]

Records Governing Off-the Record Communications; Notice Regarding Prior Notice

August 25, 2009.

On August 24, 2009, the Federal Energy Regulatory Commission published in the Federal Register a Public Notice in Docket No. RM98-1-000.¹

¹ 74 FR 42671 (2009).

The Commission inadvertently published this document in the Federal Register and the notice should be disregarded.

Kimberly D. Bose,
Secretary.

[FR Doc. E9-20937 Filed 8-28-09; 8:45 am]

BILLING CODE 6717-01-P